DEPARTMENT OF DEFENSE

Office of the Secretary

[Docket ID: DoD-2008-OS-0117]

Privacy Act of 1974; System of Records

AGENCY: Defense Contract Audit Agency, DoD.

ACTION: Notice to add a System of Records.

SUMMARY: The Defense Contract Audit Agency proposes to add a system of records notice in its existing inventory of records systems subject to the Privacy Act of 1974, (5 U.S.C. 552a), as amended.

DATES: This proposed action will be effective without further notice on October 31, 2008 unless comments are received that would result in a contrary determination.

ADDRESSES: Send comments to Senior Advisor, Defense Contract Audit Agency, Information and Privacy, CM, 8725 John J. Kingman Road, Suite 2135, Fort Belvoir, VA 22060-6201.

FOR FURTHER INFORMATION CONTACT: Mr. Darryl Aaron at (703) 767-6219.

SUPPLEMENTARY INFORMATION: The Defense Contract Audit Agency systems of records notices subject to the Privacy Act of 1974, (5 U.S.C. 552a), as amended, have been published in the Federal Register and are available from the address above.

The proposed system reports, as required by 5 U.S.C. 552a(r), of the Privacy Act of 1974, as amended, were submitted on September 22, 2008, to the House Committee on Government Oversight and Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: September 23, 2008.
Patricia L. Toppings,
OSD Federal Register Liaison Officer, Department of Defense.

RDCAA 590.14

System name:

Access Request Records.

System location:

Chief, Information Technology Operations, Headquarters, Defense Contract Audit Agency, ATTN: DCAA OIT, 8725 John J. Kingman Road, Fort Belvoir, VA 22060-6219.

Categories of individuals covered by the system:

Defense Contract Audit Agency (DCAA) civilian personnel and contractor employees, and any individuals requiring access to DCAA-controlled networks, computer systems, and databases.

Categories of records in the system:

System contains documents relating to requests for and grants of access to DCAA computer networks, systems, or databases. The records contain the individual's name; Social Security Number (SSN); citizenship; physical and electronic addresses; work telephone numbers; office symbol; contractor/employee status; type of access/permissions required; verification of need-to-know; dates of mandatory information assurance awareness training; and security clearance data. For contractors, the system also contains the company name, contract number, and contract expiration date.

Authority for maintenance of the system:

5 U.S.C. 301, Departmental Regulations; 5 U.S.C. 302, Delegation of Authority; 10 U.S.C. 133, Under Secretary of Defense for Acquisition and Technology; 18 U.S.C. 1029, Access device fraud; and E.O. 10450 Security Requirements for Government Employees as amended; DoDI 8500.2, Information Assurance (IA) Implementation; and E.O. 9397 (SSN).

Purpose(s):

To control and track access to DCAA-controlled networks, computer systems, and databases. The records may also be used by law enforcement officials to identify the occurrence of and assist in the prevention of computer misuse and/or crime. Statistical data, with all personal identifiers removed, may be used by management for system efficiency, workload calculation, or reporting purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of DCAA's compilation of systems of records notices apply to this system.

Policies and practices for storing, retrieving, accessing, retaining, and disposing of records:

Storage:

Electronic storage media.

Retrievability:

By individual's name or Social Security Number (SSN).

Safeguards:

Records are maintained in secure, limited access, or monitored work areas accessible only to authorized personnel. Only the originator and DCAA security office can view an individual's SSN. Electronic records are stored on computer systems employing software programs that monitor network traffic to identify unauthorized attempts to upload or change information. Access to computer systems is password and/or Public Key Infrastructure controlled.

Retention and disposal:

Records are deleted when no longer needed for administrative, legal, audit, or other operational purposes. Records relating to contractor access are destroyed 3 years after contract completion or termination.

System manager(s) and address:

Chief, Information Technology Operations, Headquarters Defense Contract Audit Agency, ATTN: DCAA OIT, 8725 John J. Kingman Road, Fort Belvoir, VA 22060-6219.

Notification procedure:

Individuals seeking to determine whether this system of records contains information about themselves should address written inquiries to the Privacy Act Officer, Headquarters, Defense Contract Audit Agency, ATTN: CMR, 8725 John J. Kingman Road, Suite 2135, Fort Belvoir, VA 22060-6219.

Written requests will contain individual's name, Social Security Number (SSN), proof of identification and any other pertinent information necessary.

Record access procedures:

Individuals seeking to access records about themselves contained in this system of records should address written inquiries to the Privacy Act Officer, Headquarters, Defense Contract Audit Agency, ATTN: CMR, 8725 John J. Kingman Road, Suite 2135, Fort Belvoir, VA 22060-6219.

Written requests will contain individual's name, Social Security Number (SSN), proof of identification and any other pertinent information necessary.

Contesting record procedures:

DCAA's rules for accessing records, for contesting contents and appealing initial agency determinations are published in DCAA Regulation 5410.10; 32 CFR part 317; or may be obtained from the system manager.

Record source categories:

Information is supplied by record subjects, their supervisors, and the personnel security staff. Some data, such as information technology access code, is supplied by the Information Technology staff.

Exemptions claimed for the system:

None.

[FR Doc. E8-23027 Filed 9-30-08; 8:45 am]

BILLING CODE 5001-06-P